DEPARTMENT OF ENERGY

Notice of Intent To Prepare an Environmental Impact Statement for the Plains and Eastern Clean Line Transmission Project and Notice of Potential Floodplain and Wetland Involvement

AGENCY: Department of Energy.

ACTION: Notice of Intent (NOI) To Prepare an Environmental Impact Statement and Notice of Potential Floodplain and Wetland Involvement.

SUMMARY: The U.S. Department of Energy (DOE) intends to prepare an Environmental Impact Statement for the Plains & Eastern Clean Line Transmission Project (DOE/EIS-0486; Plains & Eastern EIS or EIS) to assess the potential environmental impacts of participating with Clean Line Energy Partners LLC (Clean Line) in the proposed Plains & Eastern Project (the proposed project). The proposed project would include an overhead ± 600 kilovolt (kV) high voltage direct current (HVDC) electric transmission system and associated facilities with the capacity to deliver approximately 3,500 megawatts (MW) primarily from renewable energy generation facilities in the Oklahoma Panhandle region to load-serving entities in the Mid-South and Southeast via an interconnection with the Tennessee Valley Authority (TVA). The proposed project would traverse Oklahoma, Arkansas, and Tennessee, a distance of approximately 700 miles between interconnection facilities in Texas County, Oklahoma, and Shelby County, Tennessee. The proposed project would require construction of a new alternating current (AC)/direct current (DC) converter station at each end of the transmission line.

Portions of the proposed project may affect floodplains and/or wetlands. This NOI, therefore, also serves as a notice of proposed floodplain or wetland action in accordance with DOE floodplain and wetland environmental review requirements (10 CFR part 1022). The Plains & Eastern EIS will include a floodplain and wetland assessment. DOE plans to coordinate the National Environmental Policy Act (NEPA) review and the Section 106 compliance process under the National Historic Preservation Act (NHPA). DOE also intends to consult with the U.S. Fish and Wildlife Service (USFWS) and the National Marine Fisheries Service (NMFS), as appropriate, pursuant to Section 7 of the Endangered Species Act.

DATES: DOE invites public comment on the scope of the Plains & Eastern EIS during a 90-day public scoping period beginning with publication of this notice and ending on March 21, 2013. See Public Participation in the SUPPLEMENTARY INFORMATION section for public scoping meeting dates and locations. DOE will consider all comments received or postmarked by the end of the scoping period and will consider comments received or postmarked after the ending date to the extent practicable.

ADDRESSES: Written comments on the scope of the Plains & Eastern EIS and requests to be added to the EIS distribution list may be submitted by any of the following methods:

• Electronic comments via the project Web site at http://PlainsandEasternEIS.com.

• Email to info@PlainsandEasternEIS.com.

• U.S. Mail to Plains & Eastern Clean Line EIS, 1099 18th Street, Suite 580, Denver, CO 80202.

For additions to the distribution list, please specify the format of the Plains & Eastern EIS that you would prefer to receive (printed copy, CD, or DVD) and a preference for either the complete EIS document or “Summary Only.” When completed, the EIS will be available for download at the project Web site (http://PlainsandEasternEIS.com) and at the DOE NEPA Web site (http://energy.gov/nepa).

FOR FURTHER INFORMATION CONTACT: For information on the Plains & Eastern EIS, contact Jane Summerson, Ph.D., DOE NEPA Document Manager, Office of Energy Efficiency and Renewable Energy, U.S. Department of Energy, 1000 Independence Avenue SW., Washington, DC 20585, or email at Jane.Summerson@ee.doe.gov.

For general information about the DOE NEPA process, contact Carol Borgstrom, Director, Office of NEPA Policy and Compliance (GC-54), U.S. Department of Energy, 1000 Independence Avenue SW., Washington, DC 20585, or phone at (202) 586-4600, voicemail at (800) 472-2756, or email at askNEPA@hq.doe.gov. Additional information regarding DOE's NEPA activities is available on the DOE NEPA Web site at http://energy.gov/nepa.

SUPPLEMENTARY INFORMATION:

1. Background

Section 1222(b) of the Energy Policy Act of 2005 (EPAct) authorizes the Secretary of Energy, acting through and in consultation with the Administrator of the Southwestern Power Administration (Southwestern) to participate with other entities in designing, developing, constructing, operating, maintaining, or owning new electric power transmission facilities and related facilities located within any state in which Southwestern operates, provided the Secretary determines that certain conditions have been met. Southwestern is one of four Power Marketing Administrations that operates within DOE. Southwestern is chartered to market and deliver power in the southwestern United States, including Arkansas and Oklahoma, to rural electric cooperatives and municipal utilities.

On June 10, 2010, DOE issued a Request for Proposals (RFP) for new or upgraded transmission projects pursuant to Section 1222 (75 FR 32940). Clean Line Energy Partners LLC of Houston, Texas, the parent company of Plains and Eastern Clean Line LLC and Plains and Eastern Clean Line Oklahoma LLC (collectively referred to as Clean Line), responded to the RFP on July 6, 2010, providing a description of the proposed project and supporting information. Clean Line's original proposal included two HVDC lines, each rated at 3,500 MW, together with the capacity to deliver 7,000 MW. Since the original proposal was submitted, Clean Line has modified its Section 1222 proposal to a single HVDC line with the capacity to deliver 3,500 MW. More information on the proposed project, including updates, can be found at http://PlainsandEasternEIS.com. DOE has concluded that Clean Line's proposal complied with and was responsive to the RFP.

Prior to making a determination whether to participate in the proposed project, DOE must fully evaluate the proposed project, in consultation with Southwestern, including reviewing the potential environmental impacts pursuant to NEPA and the requirements of Section 1222(b). DOE is preparing the Plains & Eastern EIS pursuant to NEPA, the Council on Environmental Quality (CEQ) NEPA regulations (40 CFR parts 1500 through 1508), and the DOE NEPA implementing regulations (10 CFR part 1021).

Portions of the proposed project may affect floodplains and/or wetlands. There are floodplains associated with the Cimarron River, North Canadian River, Arkansas River, White River, Cache River, and Mississippi River, each of which would be crossed by the proposed transmission line, and potentially at other locations along the proposed routes. Similarly, wetlands could be present along the proposed routes, including near tributaries to rivers in the project area. This NOI, therefore, also serves as a notice of proposed floodplain or wetland action in accordance with DOE floodplain and wetland environmental review requirements (10 CFR part 1022). The Plains & Eastern EIS will include a floodplain and wetland assessment. DOE plans to coordinate the NEPA review and the NHPA Section 106 compliance process. DOE also intends to initiate consultation with USFWS and NMFS, as appropriate, pursuant to Section 7 of the Endangered Species Act.

2. Purpose and Need for Agency Action

DOE's purpose and need for agency action is to implement Section 1222(b) of the EPAct. To that end, DOE needs to decide whether and under what conditions to participate in Clean Line's proposed Plains & Eastern Project.

3. Proposed Action and Alternatives

The proposed project would include an overhead ± 600kV HVDC electric transmission system with the capacity to deliver approximately 3,500 MW from the Oklahoma Panhandle region to load-serving entities in the Mid-South and Southeast. The proposed project would traverse Oklahoma, Arkansas, and Tennessee, a distance of approximately 700 miles. The western portion of the proposed project would interconnect to the transmission system operated by the Southwest Power Pool in Texas County, Oklahoma. The eastern portion of the proposed project would interconnect to the transmission system operated by TVA in Shelby County, Tennessee. TVA would make the necessary upgrades to its transmission system, which could include construction and operation of new transmission lines and substations and upgrades to existing transmission lines and substations.

A new AC/DC converter station would be built at each end of the transmission line. Each converter station would require the use of approximately 30 to 50 acres and would be located on private land. The converter stations are proposed to be located in Texas County, Oklahoma, and either Shelby County or Tipton County, Tennessee. The proposed project would include, in addition to the HVDC transmission line, four to six AC transmission lines of up to 345kV interconnecting the western converter station with new wind generation facilities that would be located in parts of the Oklahoma panhandle, southwest Kansas, and Texas panhandle within approximately 40 miles of the western converter station. Clean Line anticipates that electricity generated by these facilities would constitute the majority of the transmission capacity of the transmission line.

The proposed project would also include the following major facilities and improvements:

• Right-of-way easements for the transmission lines with a typical width of approximately 150 to 200 feet for the HVDC line and potentially narrower for the AC transmission lines.

• Tubular or lattice steel structures used to support the transmission lines. For the HVDC line, structures typically would be between 120 and 200 feet tall depending on site-specific conditions. Limited quantities of taller structures may be required in some locations to address engineering constraints. Structures for the AC transmission lines may be shorter.

• Access roads, including improvements to existing roads, new overland access, and new unpaved temporary roads to access the proposed project facilities and work areas during the construction and operation phases.

• Ancillary facilities, such as communications facilities for access control and protection.

DOE's proposed action is to participate with Clean Line in the proposed project. In the Plains & Eastern EIS, DOE will analyze the potential environmental impacts of a range of reasonable alternative routes that could comprise the proposed project. DOE will also identify possible mitigation strategies for potential environmental impacts.

Clean Line identified the proposed location for the western converter station based on the presence of both an excellent wind resource (as classified by the DOE National Renewable Energy Laboratory) and adequate electrical interconnection facilities, including planned upgrades to existing facilities. Clean Line identified the proposed location for the eastern converter station based on the presence of high-voltage transmission facilities capable of interconnection and delivery of up to 3,500 MW of energy to portions of the Mid-South and Southeast.

As part of its planning process, Clean Line first identified several corridors within a broad study area. Clean Line evaluated the corridors for engineering and environmental issues and subsequently refined the corridors using input from federal and state agencies, municipalities, non-governmental organizations, and various stakeholders. Clean Line then identified a study corridor approximately five to eight miles wide and held meetings with community leaders in counties intersected by the study corridor to solicit additional input. Clean Line then held open house meetings in fall 2012 to seek additional public input on potential routes. Using this information, Clean Line identified and submitted to DOE several potential routes.

In Oklahoma, the potential routes proposed by Clean Line begin in the central Oklahoma Panhandle and proceed in an east-southeasterly direction through generally rural areas between Oklahoma City and Tulsa, exiting the state in eastern Oklahoma near Sallisaw. The routes pass through the Central Flyway for migratory birds throughout Oklahoma. The proposed routes intersect the following counties in Oklahoma: Texas; Beaver; Harper; Woodward; Major; Garfield; Kingfisher; Logan; Payne; Lincoln; Creek; Okmulgee; Muskogee; and, Sequoyah. More specifically, from southern Texas County near Guymon, Oklahoma, to Harper County, routes are generally parallel to U.S. Highway 412 in an easterly direction through the Oklahoma Panhandle. They trend southeasterly in Woodward County, crossing the North Canadian River, and north of the city of Woodward and east of Boiling Springs State Park. From Woodward County, routes continue generally east and southeast in Major, Garfield, and Kingfisher counties, crossing the Cimarron River near Fairview and Glass Mountains State Park. In Payne County, routes cross the Cimarron River a second time and run near the Cushing Municipal Airport. The routes then trend in a southeasterly direction south of Cushing. The routes diverge around Bristow and run north of the city of Okmulgee. Routes continue a southeasterly trend in Muskogee County, crossing the Arkansas River at the Webbers Falls Reservoir near Gore. The routes then begin an easterly track, exiting Oklahoma northeast of Sallisaw in eastern Sequoyah County and entering Arkansas in western Crawford County.

In Arkansas, the routes proposed by Clean Line enter western Arkansas north of the city of Van Buren and proceed in an easterly direction through generally rural areas, exiting eastern Arkansas south of the city of Osceola, entering into Tennessee across the Mississippi River. The routes pass through the Mississippi Flyway for migratory birds throughout Arkansas and Tennessee. The proposed routes intersect the following counties in Arkansas: Crawford; Franklin; Johnson; Pope; Conway; Van Buren; Faulkner; Cleburne; White; Jackson; Poinsett; and, Mississippi. More specifically, from Crawford County to eastern Pope County, the routes are south of the Ozark National Forest and generally follow the Arkansas River valley and Interstate Highway 40. Routes diverge around Alma and Dyer, but pass north of Ozark, Clarksville, and Dover, near the Cherokee Wildlife Management Area. In Conway County north of Morrilton, the routes continue in an easterly direction. The routes continue this easterly track north of Greenbrier, near Damascus and Quitman. North of Searcy, the routes turn northeast generally parallel to State Highway 67 north of Bradford, crossing the White River. The routes continue easterly along divergent paths across the Cache River and south of Marked Tree, cross Interstate Highway 55, to two proposed crossing locations of the Mississippi River. The proposed Mississippi River crossing locations are a north-south oriented crossing east of Wilson, Arkansas, at approximately river mile 768, and an east-west oriented crossing southeast of Joiner, Arkansas, at approximately river mile 762.

In Tennessee, the routes proposed by Clean Line enter western Tennessee from Arkansas at the two potential crossing locations described above and generally proceed in a southeasterly direction along separate paths through generally rural and suburban areas of Tipton County and Shelby County. The routes diverge around the community of Drummonds, with one route near Munford and Atoka and one route near Millington. The routes converge near the proposed interconnection point in Shelby County near Tipton, Tennessee.

DOE will analyze a range of reasonable alternatives. DOE has reviewed Clean Line's process and its proposed routes and determined that they provide a sufficient initial basis for the EIS. In addition, DOE will consider additional reasonable alternatives proposed in scoping comments and may expand or refine the range of alternatives based on those comments. Maps identifying the potential routes currently proposed for analysis are available on the EIS Web site at http://PlainsandEasternEIS.com. In addition to the facilities associated with the proposed project, the EIS will also analyze any facility additions and upgrades to third party systems to accommodate the proposed project.

The EIS also will analyze a No Action alternative, under which DOE would not participate with Clean Line in the proposed project. DOE assumes for analytical purposes that the Plains & Eastern Project would not move forward and none of the potential environmental impacts associated with the proposed project would occur.

4. Preliminary Identification of Environmental Issues

DOE proposes to analyze potential short-term environmental impacts, such as those from construction, and potential long-term environmental impacts of operating and maintaining the transmission line. DOE's guidance for the preparation of an EIS recommends the use of the sliding-scale approach when evaluating environmental impacts. This approach would focus the analysis and discussion of impacts on significant environmental issues in proportion to the significance of the potential impacts. DOE has identified the following preliminary list of impact areas for evaluation in the EIS:

• Land Use, Recreation, and Visual Resources

• Water Use and Water Quality

• Surface Water Features including Rivers, Floodplains, and Wetlands

• Fish, Wildlife, and Vegetation, including Critical Habitat

• Socioeconomics

• Environmental Justice

• Historic and Cultural Resources

• Geology, Soil, and Mineral Resources

• Human Health and Electric and Magnetic Fields

• Air Quality and Climate Change

• Construction-Related Impacts, including Road Clearing, Traffic, and Noise

• Accidents, Intentional Destructive Acts, and Hazards, including Air Space Management

• Waste Management

This list is not intended to be all-inclusive or to imply any predetermination of impacts. DOE invites interested parties to suggest specific issues, including possible mitigation measures, within these general categories, or other categories not included above, to be considered in the EIS.

5. Agency Responsibilities

5.1 Stakeholder Involvement and Cooperating Agencies

DOE will prepare the EIS and will coordinate with appropriate federal, state, and tribal governments; local agencies; and interested members of the public during the preparation of the EIS. DOE will consult with Indian tribes on a government-to-government basis in accordance with Executive Order 13175 and other policies. Tribal concerns, including impacts on Indian trust assets and potential impacts on cultural resources, will be considered. DOE invites federal, state, tribal governments and local agencies with jurisdiction by law or with special expertise to be cooperating agencies on the EIS as defined in 40 CFR 1501.6. Such governments and/or agencies may also make a request to DOE to be a cooperating agency. As of this notice, TVA, and the Tulsa District and the Memphis District of the U.S. Army Corps of Engineers have committed to being cooperating agencies.

5.2 National Historic Preservation Act

Section 106 of the NHPA requires federal agencies to consider the effects of an undertaking on historic properties—historic structures and historic artifacts—before authorizing an undertaking (36 CFR part 800). Federal agencies are encouraged to coordinate compliance with Section 106 of the NHPA with any steps taken to meet the requirements of NEPA (36 CFR 800.8). In the interest of being comprehensive and less duplicative, DOE plans to coordinate the NEPA review and Section 106 compliance process for the preparation of the Plains & Eastern EIS to the greatest extent practicable. Further, DOE plans to invite federal, state, tribal governments, and members of the public to participate in this NEPA process for the purpose of ensuring the standards in 36 CFR 800.8(c)(1) through 800.8(c)(5), “Protection of Historic Properties,” are met, including identifying mitigation actions that may be appropriate to address potential adverse effects that may result from implementing the proposed project.

5.3 Endangered Species Act

Section 7 of the Endangered Species Act requires an agency proposing to take an action to inquire of the USFWS and NMFS, as appropriate, whether any threatened or endangered species “may be present” in the area of the proposed action [see 16 U.S.C. 1536(c)(1)]. Accordingly, DOE intends to initiate consultation with these agencies.

6. Public Participation

The purpose of the scoping process is to identify alternatives and potential environmental impacts that DOE should analyze in the EIS. DOE will hold 12 public scoping meetings at the following locations and times in Oklahoma, Arkansas, and Tennessee to provide the public with an opportunity to present comments, ask questions, and discuss the scope of the Plains & Eastern EIS with DOE and Clean Line representatives.

• January 22, 2013, 5:00-8:00 p.m. at Arkansas State University—Marked Tree Student Center, 33500 Highway 63 E, Marked Tree, AR 72365

• January 24, 2013, 5:00-8:00 p.m. at Gateway Baptist Church Center, 1915 Rosemark Road, Atoka, TN 38004

• January 28, 2013, 5:00-8:00 p.m. at Pickle Creek Center, 822 NE 6th Street, Guymon, OK 73942

• January 29, 2013, 5:00-8:00 p.m. at Beaver County Fairgrounds—Pavilion Building, 1107 Douglas Avenue, Beaver, OK 73932

• January 31, 2013, 5:00-8:00 p.m. at Woodward Convention Center—Meeting Room 1, 3401 Centennial Lane, Woodward, OK 73801

• February 4, 2013, 5:00-8:00 p.m. at Muskogee Civic Center Room D, 425 Boston Street, Muskogee, OK 74401

• February 5, 2013, 5:00-8:00 p.m. at Cushing Youth and Community Center, 700 South Little, Cushing, OK 74023

• February 7, 2013, 5:00-8:00 p.m. at Enid Convention Hall—Grand Ballroom, 301 South Independence, Enid, OK 73701

• February 11, 2013, 5:00-8:00 p.m. at Van Buren Public Library, 1409 Main Street, Van Buren, AR 72956

• February 12, 2013, 5:00-8:00 p.m. at Lake Point Conference Center—Event Center, 61 Lake Point Lane, Russellville, AR 72802

• February 19, 2013, 5:00-8:00 p.m. at Arkansas State University—Newport, Student Community Center—M&P I&I NEDC Room (First room on the left), 7648 Victory Boulevard, Newport, AR 72112

• February 21, 2013, 5:00-8:00 p.m. at Carmichael Community Center Auditorium, 801 S. Elm, Searcy, AR 72143

DOE will also announce the public scoping meetings via local news media, industry newsletters, and posting on the DOE NEPA Web site at http://energy.gov/nepa/public-comment-opportunities and on the Plains & Eastern EIS Web site at http://PlainsandEasternEIS.com at least 15 days prior to each meeting.

The scoping meetings will start with an informal open house to facilitate dialogue between project officials and the public. DOE will then provide an overview of the proposed project and lead a short, informal question-and-answer period to clarify the information presented and to answer questions about the NEPA process. The public will have an opportunity to view maps and project information and present comments on the scope of the Plains & Eastern EIS. Representatives from DOE, Clean Line, and involved agencies will be available to answer questions and provide additional information to meeting attendees. A court reporter will be available at each scoping meeting to record oral comments from meeting attendees.

In addition to providing comments at the public scoping meetings, DOE will accept written comments as described in the ADDRESSES section. DOE will consider all comments postmarked or received during a 90-day public scoping period beginning with publication of this notice and ending on March 21, 2013. DOE will consider comments postmarked or received after that date to the extent practicable.

DOE expects to publish the draft EIS in the fall of 2013. The U.S. Environmental Protection Agency will publish a Notice of Availability of the draft EIS in the Federal Register, which will begin a minimum public comment period of 45 days. DOE will announce how to comment on the draft EIS and will hold public hearings during the public comment period. People who would like to receive a copy of the draft EIS when it is issued should submit a request as provided in the ADDRESSES section and specify their format preference.

Issued in Washington, DC, on December 14, 2012.
Patricia Hoffman.
Assistant Secretary for Electricity Delivery and Energy Reliability.

[FR Doc. 2012-30833 Filed 12-20-12; 8:45 am]

BILLING CODE 6450-01-P